DEPARTMENT OF HOUSING AND URBAN DEVELOPMENT

[Docket No. FR-4561-N-14]

Notice of Submission of Proposed Information Collection to OMB; Study of the Effectiveness of the Milwaukee Lead Hazard Control Ordinance

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: April 24, 2000.

ADDRESSES: Interested persons are invited to submit comments regarding this proposal. Comments must be received within thirty (30) days from the date of this Notice. Comments should refer to the proposal by name and/or OMB approval number should be sent to: Joseph F. Lackey, Jr., HUD Desk Officer, Office of Management and Budget, Room 10235, New Executive Office Building, Washington, DC 20503.

FOR FURTHER INFORMATION CONTACT: Wayne Eddins, Reports Management Officer, Department of Housing and Urban Development, 451 7th Street, SW, Washington, DC 20410, e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the names and telephone numbers of an agency official familiar with the proposal and of the OMB Desk Officer for the Department.

This Notice also lists the following information:

Title of Proposal: A Study of the Effectiveness of the Milwaukee Lead Hazard Control Ordinance.

OMB Control Number: 2539-XXXX.

Description of the Need for the Information and Its Proposed Use: This study will assess the effectiveness of a city of Milwaukee ordinance requiring owners pre-1950 rental housing in two neighborhoods with high rates of childhood lead poisoning to conduct specified low cost lead hazard control treatments. Children born into treated units will be followed for 2 years to assess the efficacy of the interventions in preventing overexposure to lead. This information will be useful for determining the primary prevention effectiveness of these interventions and for other municipalities that are contemplating similar legislation. Residents of the two “treatment” neighborhoods and two control neighborhoods will be recruited into the study.

Form Numbers: None.

Respondents: Individuals or households, State, Local or Tribal Government.

Frequency of Submission: Reporting.

Reporting Burden:

| Number of respondents | × | Frequency of response | × | Hours per response | = | Burden hours
New Collection | 312 |  | 2 |  | 0.68 |  | 425

Total Estimated Burden Hours: 425.

Status: New Collection.

Authority: The Paperwork Reduction Act of 1995, 44 U.S.C. 35, as amended.

Dated: March 17, 2000.
Wayne Eddins,
Departmental Reports Management Officer, Office of the Chief Information Officer.

[FR Doc. 00-7260 Filed 3-23-00; 8:45 am]

BILLING CODE 4210-01-M